DEPARTMENT OF COMMERCE

International Trade Administration

[A-475-818]

Certain Pasta From Italy: Notice of Final Results of Antidumping Duty Changed Circumstances Review

AGENCY: Enforcement and Compliance, International Trade Administration, Department of Commerce.

SUMMARY: On June 23, 2015, the Department of Commerce (Department) published the preliminary results of the changed circumstances review of the antidumping duty order on certain pasta from Italy and preliminarily determined that La Molisana S.p.A. (La Molisana) was not the successor-in-interest to La Molisana Industrie Alimentari, S.p.A. (LMI), a respondent in the investigation and several administrative reviews.¹ We received comments from interested parties. Based on our analysis, for the final results, the Department continues to find that La Molisana is not the successor-in-interest to LMI.

¹ See Certain Pasta from Italy: Notice of Preliminary Results of Antidumping Duty Changed Circumstances Review, 80 FR 35936 (June 23, 2015) (Preliminary Results) and accompanying Preliminary Decision Memorandum.

DATES: Effective Date: October 28, 2015.

FOR FURTHER INFORMATION CONTACT: Stephanie Moore, Office III, AD/CVD Operations, Enforcement and Compliance, International Trade Administration, U.S. Department of Commerce, 14th and Constitution Avenue NW., Washington, DC 20230; telephone: (202) 482-3692.

Background

On July 24, 1996, the Department published in the Federal Register the antidumping duty order on pasta from Italy.² The most recently completed administrative review for LMI was for the July 1, 1998 to June 30, 1999 period.³ Pursuant to Section 129 of the Uruguay Round Agreements Act, the Department recalculated the cash deposit rate for LMI and assigned it a de minimis margin.⁴

² See Notice of Antidumping Duty Order and Amended Final Determination of Sales at Less Than Fair Value: Certain Pasta From Italy, 61 FR 38547 (July 24, 1996); see also Notice of Second Amendment to the Final Determination and Antidumping Duty Order: Certain Pasta From Italy; 61 FR 42231 (August 14, 1996).

³ See Certain Pasta From Italy: Final Results of Antidumping Duty Administrative Review, 65 FR 77852 (December 13, 2000).

⁴ See Notice of Implementation of Determination Under Section 129 of the Uruguay Round Agreements Act: Stainless Steel Plate in Coils From Belgium, Steel Concrete Reinforcing Bars From Latvia, Purified Carboxymethylcellulose From Finland, Certain Pasta From Italy, Purified Carboxymethylcellulose From the Netherlands, Stainless Steel Wire Rod From Spain, Granular Polytetrafluoroethylene Resin From Italy, Stainless Steel Sheet and Strip in Coils From Japan, 77 FR 36257 (June 18, 2012) (Notice of Section 129 Implementation).

On June 23, 2014, La Molisana requested a changed circumstances review. On August 12, 2014, the Department initiated this review.⁵ On June 23, 2015, the Department published in the Federal Register a preliminary finding that La Molisana was not the successor-in-interest to LMI.⁶

⁵ See Certain Pasta From Italy: Initiation of Changed Circumstances Review, 79 FR 47090 (August 12, 2014).

⁶ See Preliminary Results.

On July 2, 2015, La Molisana submitted a case brief.⁷ On July 10, 2015, Petitioners submitted a rebuttal brief.⁸ A hearing was held on July 15, 2015. The Department extended the deadline for the final results until October 21, 2015.⁹

⁷ See La Molisana's July 2, 2015 Case Brief.

⁸ See Petitioners' July 10, 2015 Rebuttal Brief.

⁹ See October 13, 2015 Letter to La Molisana.

Scope of the Order

Imports covered by the order are shipments of certain non-egg dry pasta. The merchandise subject to review is currently classifiable under items 1901.90.90.95 and 1902.19.20 of the Harmonized Tariff Schedule of the United States (HTSUS). Although the HTSUS subheadings are provided for convenience and customs purposes, the written description of the merchandise subject to the order is dispositive.¹⁰

¹⁰ For a full description of the scope of the order, see the Preliminary Decision Memorandum at 2.

Analysis of Comments Received

All issues raised in the case and rebuttal briefs by parties to this changed circumstances review are addressed in the Issues and Decision Memorandum, which is hereby adopted by this notice. A list of the issues which parties have raised, and to which we have responded in the Issues and Decision Memorandum, is attached to this notice as an Appendix. The Issues and Decision Memorandum is a public document and is on file electronically via Enforcement and Compliance's Antidumping and Countervailing Duty Centralized Electronic Service System (ACCESS). ACCESS is available to registered users at http://access.trade.gov, and it is available to all parties in the Central Records Unit, room B8024, of the main Department of Commerce building. In addition, a complete version of the Issues and Decision Memorandum can be accessed directly on the internet at http://enforcement.trade.gov/frn/. The signed Issues and Decision Memorandum and the electronic version of the Issues and Decision Memorandum are identical in content.

Final Results of Changed Circumstances Review

For the Preliminary Results, the Department found that La Molisana was not the successor-in-interest to LMI based on the totality of the record evidence.¹¹ Based on the totality of the circumstances, we preliminarily determined that La Molisana is materially dissimilar to LMI in terms of management, production facilities, and supplier relationships.¹² Based on our analysis of the comments received, the Department continues to find that La Molisana is not the successor-in-interest to LMI pursuant to section 751(b) of the Tariff Act of 1930, as amended (the Act) and 19 CFR 351.216.¹³

¹¹ See Preliminary Results and accompanying Preliminary Decision Memorandum.

¹² Id.

¹³ See Issues and Decision Memorandum at Comments 1-6.

Instructions to U.S. Customs and Border Protection

As a result of this determination, the Department will instruct U.S. Customs and Border Protection to collect estimated antidumping duties for all shipments of subject merchandise exported by La Molisana and entered, or withdrawn from warehouse, for consumption on or after the publication date of this notice in the Federal Register at the 15.45 percent the all-others rate established in the antidumping duty investigation, as modified by the section 129 determination.¹⁴ This cash deposit requirement shall remain in effect until further notice.

¹⁴ See Notice of Implementation of Section 129.

Notification

This notice serves as a reminder to parties subject to administrative protective orders (APOs) of their responsibility concerning the disposition of proprietary information disclosed under APO in accordance with 19 CFR 351.306. Timely written notification of the destruction of APO materials or conversion to judicial protective order is hereby requested. Failure to comply with the regulations and terms of an APO is a sanctionable violation.

This notice is published in accordance with sections 751(b)(1) and 777(i) of the Act and 19 CFR 351.216 and 351.221.

Dated: October 21, 2015.
Paul Piquado,
Assistant Secretary for Enforcement and Compliance.

APPENDIX

I. Summary

II. Background

III. Scope of the Order

IV. Discussion of Methodology

V. Discussion of Interested Party Comments

Comment 1: Whether the Department's Preliminary Results Are in Accordance With Law and Supported by Record Evidence

Comment 2: Whether the Department's Analysis of the Management Factor Is Flawed

Comment 3: Whether the Department's Analysis of Production Facilities Is Flawed

Comment 4: Whether the Department's Analysis of Supplier Relationships Is Flawed

Comment 5: Whether the Department's Analysis of Customer Base Is Flawed

Comment 6: Whether the Department Failed To Reject Petitioners' Improperly Filed Submission

Recommendation

[FR Doc. 2015-27458 Filed 10-27-15; 8:45 am]

BILLING CODE 3510-DS-P